DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Canadian National/Illinois Central Railroad (CN/IC) (Waiver Petition Docket Number FRA-1999-6143)

CN/IC is seeking a permanent waiver of compliance with the Railroad Safety Appliance Standards, 49 CFR part 231.27(b)(4)(ii), which requires that “When made of material other than wood, the tread surface shall be of anti-skid design and constructed with sufficient open space to permit the elimination of snow and ice from the tread surface.” In FRA's Technical Bulletin MP&E 98-17, issued on June 15, 1998 (originally issued in 1990 as Technical Bulletin MP&E 90-11) the floor most closely resemble cars described in Part 231.27, “House and other box cars without hatch covers built or put in service after October 1, 1966.” CN/IC states that its 350 cars (reporting marks ICG 978650 to and including 978999) were built between 1981 and 1982. CN/IC further states that the original specifications for the car's construction required that all safety appliances will be in accordance with the United States Safety Appliance Standards and Power Brake Requirements as issued by FRA. CN/IC was under the assumption that the cars would have been grandfathered as having an excepted design. CN/IC cited its records which indicate that the car's end platform arrangements have never been stipulated as the primary or secondary cause in a personnel injury. CN/IC maintains that the demand for the bulkhead flatcars has been minimal, and thirty-one percent of the cars are either retired, bad ordered, not operating in the U.S., or in storage. Therefore, CN/IC requests that a waiver of compliance be granted for this series of cars.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 1999-6143) and must be submitted in triplicate to the Docket Clerk, DOT Central Docket Management Facility, Room Pl-401, Washington, DC 20590-001. Communications received within 30 days of the date of this notice will be considered by FRA before final action is taken. Comments received after that date will be considered as far as practicable. All written communications concerning these proceedings are available for examination during regular business hours (9:00 a.m.-5:00 p.m.) at the DOT Central Docket Management Facility, Room Pl-401 (Plaza Level), 400 7th Street, SW, Washington, DC 20590. All documents in the public docket are also available for inspection and copying on the Internet at the docket facility's web site at http://dms.dot.gov.

Issued in Washington, DC on June 22, 2000.
Grady C. Cothen, Jr.,
Deputy Associate Administrator for Safety Standards and Program Development.

[FR Doc. 00-16352 Filed 6-27-00; 8:45 am]

BILLING CODE 4910-06-P